DEPARTMENT OF TRANSPORTATION

Federal Aviation Administration

Commercial Space Transportation Advisory Committee—Open Meeting

AGENCY: Federal Aviation Administration (FAA), DOT.

ACTION: Notice of Commercial Space Transportation Advisory Committee Open Meeting.

SUMMARY: Pursuant to Section 10(a)(2) of the Federal Advisory Committee Act (Pub. L. 92-463, 5 U.S.C. App. 2), notice is hereby given of a meeting of the Commercial Space Transportation Advisory Committee (COMSTAC). The meeting will take place on Tuesday, May 10, 2011, starting at 8 a.m., and Wednesday, May 11, 2011, starting at 8 a.m., at the National Housing Center, 1201 15th Street, NW., Washington, DC 20005. This will be the 53rd meeting of the COMSTAC.

The proposed agenda for May 10 features meetings of the working groups as follows:

—Reusable Launch Vehicles (8 a.m.-10 a.m.)

—Space Transportation Operations (10 a.m.-12 p.m.)

—Export Controls (1 p.m.-3 p.m.)

—Risk Management (3 p.m.-5 p.m.)

The proposed agenda for May 11 features:

—Speakers relevant to the commercial space transportation industry, including Ed Mango from the Commercial Crew Office at National Aeronautics and Space Administration, Kennedy Space Center;

—A presentation on the committee's 2011 Commercial Geosynchronous Orbit Launch Model;

—A presentation on the committee's 2011 Commercial Space Transportation Forecast; and

—Reports and recommendations from the working groups.

Interested members of the public may submit relevant written statements for the COMSTAC members to consider under the advisory process. Statements may be concerning the issues and agenda items mentioned above and/or additional issues that may be relevant for the U.S. commercial space transportation industry. Interested parties wishing to submit written statements should contact Susan Lender, DFO, (the Contact Person listed below) in writing (mail or e-mail) by May 2, 2011, so that the information can be made available to COMSTAC members for their review and consideration before the May 10th opening meeting. Written statements should be supplied in the following formats: One hard copy with original signature and/or one electronic copy via e-mail.

An agenda will be posted on the FAA Web site at http://ast.faa.gov. For specific information concerning the times and locations of the COMSTAC working group meetings, contact the Contact Person listed below.

Individuals who plan to attend and need special assistance, such as sign language interpretation or other reasonable accommodations, should inform the Contact Person listed below in advance of the meeting.

FOR FURTHER INFORMATION CONTACT: Susan Lender (AST-5), Office of Commercial Space Transportation (AST), 800 Independence Avenue, SW., Room 331, Washington, DC 20591, telephone (202) 267-8029; E-mail susan.lender@faa.gov. Complete information regarding COMSTAC is available on the FAA Web site at: http://www.faa.gov/about/office_org/headquarters_offices/ast/advisory_committee/.

Issued in Washington, DC, March 23, 2011.
George C. Nield,
Associate Administrator for Commercial Space Transportation.

[FR Doc. 2011-7311 Filed 3-28-11; 8:45 am]

BILLING CODE 4910-13-P